FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than December 9, 2002.

A. Federal Reserve Bank of New York (Betsy Buttrill White, Senior Vice President) 33 Liberty Street, New York, New York 10045-0001:

1. M&T Bank Corporation, Buffalo, New York; to merge with Allfirst Financial Inc., Baltimore, Maryland, and thereby indirectly acquire voting shares of Allfirst Financial Center National Association, Millsboro, Delaware, and Allfirst Bank, Baltimore, Maryland.

In connection with this application, Applicant also has applied to acquire Allfirst Leasing Corporation, Baltimore, Maryland; Allfirst Mortgage Corporation, Baltimore, Maryland; Allfirst Life Insurance Corporation, Phoenix, Arizona; Williams, Daniels & Associates, Inc., Baltimore, Maryland; Zirkin-Cutler Investments, Inc., Bethesda, Maryland, and Loans USA, Inc., Pasadena, Maryland, and thereby engage in certain nonbanking activities including insurance, leasing insurance, financial and investment advisement, data processing and the extension of credit, pursuant to §§ 225.28(b)(1), (b)(3), (b)(6), (b)(11), and (b)(14) of Regulation Y.

2. Allied Irish Banks, P.L.C., Dublin, Ireland; to acquire up to 25 percent of the voting shares of M&T Bank Corporation, Buffalo, New York, and thereby will control indirectly shares of Manufacturers and Traders Trust Company, Buffalo, New York.

In connection with this application, Applicant also has applied to acquire Keystone Financial Life Insurance Company, Phoenix, Arizona, and thereby indirectly acquire Martindale Andres & Company, LLC, West Conshohocken, Pennsylvania, and engage in certain nonbanking activities including insurance, and investment services, pursuant to §§ 225.28(b)(6) and (b)(11) of Regulation Y.

Applicant currently owns Allfirst Financial Inc., with has applied to merge with M&T Bank Corporation. After the merger, Applicant also indirectly would own an interest in all of Allfirst's current subsidiaries including, Allfirst Financial Center, N.A., Misllsboro, Delawre.

B. Federal Reserve Bank of Atlanta (Sue Costello, Vice President) 1000 Peachtree Street, N.E., Atlanta, Georgia 30303:

1. Synovus Financial Corp., Columbus, Georgia; to merge with FNB Newton Bankshares, Inc., Covington, Georgia, and thereby indirectly acquire voting shares of First Nation Bank, Covington, Georgia.

Board of Governors of the Federal Reserve System, November 8, 2002.
Robert deV. Frierson,
Deputy Secretary of the Board.

[FR Doc. 02-28945 Filed 11-14-02; 8:45 am]

BILLING CODE 6210-01-S